DEPARTMENT OF JUSTICE

Antitrust Division

Notice Pursuant to the National Cooperative Research and Production Act of 1993—ODVA, Inc.

Notice is hereby given that, on April 6, 2021, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, MARS TOHKEN SOLUTION CO. LTD., Tokyo, JAPAN; Dunkermotoren GmbH, Bonndorf, GERMANY; Comau S.p.A., Grugliasco, Torino, ITALY; Dinkle Enterprise Co. Ltd., New Taipei City, TAIWAN; MIDAS TECHNOLOGY Co., Ltd., Gyeonggi-do, SOUTH KOREA; Rosenberger Hochfrequenztechnik GmbH & Co. KG, Fridolfing, GERMANY; and Cogniac Corporation, San Jose, CA, have been added as parties to this venture.

Also, FAS Electronics (Fujian) Co., Ltd., Fuzhou, Fujian, PEOPLE'S REPUBLIC OF CHINA; YUCHANGTECH, Suwon-si, Gyeonggi-do, SOUTH KOREA; Pepperl+Fuchs Control, Inc., New Brighton, MN; Toyo Denki Seizo KK, Chuou-ku, Tokyo, JAPAN; Hydronix Limited, Normandy, Surrey, UNITED KINGDOM; Dynapar Corporation, Gurnee, IL; Chun IL Electric Ind. Co., Sasang-Gu, Busan City, SOUTH KOREA; Industrial Network Controls, LLC, Coopersburg, PA; Bionics Instrument Co., Ltd., Tokyo, JAPAN; and Tri-Tronics Co., Inc., Tampa, FL, have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on January 14, 2021. A notice was published in the Federal Register pursuant to Section 6(b) of the Act on January 28, 2021 (86 FR 7416).

Suzanne Morris,
Chief, Premerger and Division Statistics, Antitrust Division.

[FR Doc. 2021-08080 Filed 4-19-21; 8:45 am]

BILLING CODE P